DEPARTMENT OF AGRICULTURE

Forest Service

Monongahela National Forest; West Virginia; Proposed WB Xpress Project (FERC)

AGENCY: Forest Service, USDA.

ACTION: Notice of availability of the environmental assessment for the Proposed WB XPress Project.

SUMMARY: In accordance with the National Environmental Policy Act of 1969 (NEPA), as amended; the Federal Land Policy and Management Act of 1976, as amended; and the National Forest Management Act of 1976 (NFMA), as amended; the Forest Service (USFS), U.S. Fish and Wildlife Service (USFWS), U.S. Army Corps of Engineers (USACE), West Virginia Division of Natural Resources (WVDNR), and West Virginia Department of Environmental Protection (WVDEP) have participated as cooperating agencies with the Federal Energy Regulatory Commission (FERC) in the preparation of the WB XPress Environmental Assessment (EA). The EA addresses the impacts of the project and the proposal for authorization from the Forest Service to construct, operate, maintain, and eventually decommission a natural gas transmission pipeline that crosses National Forest System (NFS) lands. With this agency-specific Notice of Availability, the FS is announcing the opening of the FERC comment period. Comments submitted to the FERC concerning FS actions need to be timely and specific, showing a direct relationship to the proposal and include supporting reasons.

DATES: To ensure that comments will be considered, the FERC must receive written comments on the WB XPress EA within 30 days following the date of publication of the FERC Notice of Availability (NOA) for the EA in the Federal Register.

ADDRESSES: You may submit comments related to the WB XPress Project EA, including any comments related to the FS consideration of the authorization of WB XPress to cross NFS lands to the FERC by any of the three methods listed below. The FERC encourages electronic filing of comments and has expert staff available to assist you at (202) 502-8258 or efiling@ferc.gov. Please carefully follow these instructions so that your comments are properly recorded.

(1) You can file your comments electronically using the eComment feature on the FERC's Web site (www.ferc.gov) under the link to Documents and Filings. This is an easy method for submitting brief, text-only comments on a project;

(2) You can file your comments electronically by using the eFiling feature on the FERC's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (CP16-38-000) with your submission:

Kimberly D. Bose, Secretary

Federal Energy Regulatory Commission

888 First Street NE., Room 1A

Washington, DC 20426

Your comments must reference the FERC Docket number for the WB XPress Project, Docket No. CP16-38-000, to be correctly attributed to this specific project. Copies of the WB XPress are available for inspection in the offices of the Forest Supervisor for the Monongahela National Forest.

FOR FURTHER INFORMATION CONTACT: Additional information about the projects is available from the FERC's Office of External Affairs at 866-208-FERC (3372), or on the FERC Web site (www.ferc.gov). On the FERC's Web site, go to “Documents & Filings,” click on the “eLibrary” link, click on “General Search” and enter the docket number CP16-38. Be sure you have selected an appropriate date range. For assistance, please contact FERC Online Support at FercOnlineSupport@ferc.gov, or toll free at 866-208-3676, or for TTY, contact 202-502-8659. The eLibrary link also provides access to the texts of formal documents issues by the FERC such as orders, notices, and rulemakings. For additional information about authorizing project activities on NFS lands, contact Clyde Thompson at (304) 636-1800.

SUPPLEMENTARY INFORMATION: This NOA is specific to the FS and provides notice that the agency has participated as a cooperating agency with FERC in the preparation of the WB XPress Project EA. The WB XPress route would cross about 11.4 miles of NFS lands managed by the Monongahela National Forest, in Randolph and Pendleton counties, West Virginia.

The FERC is the NEPA Lead Federal Agency for the environmental analysis of the construction and operation of the proposed WB XPress Project. The FS is the federal agency responsible for authorizing this use and issuing special use permits for natural gas pipelines across NFS lands under its jurisdiction.

Before issuing a Special Use permit (SUP) to construct, operate, maintain, and eventually decommission a natural gas transmission pipeline that crosses NFS lands, the FS would include any specific stipulations applicable to lands, facilities, water bodies, and easements for inclusion in the SUP.

The FERC's EA includes the consideration of a USFS authorization across NFS lands. The USFS intends to adopt FERC's EA for agency decisions if the analysis provides sufficient evidence to support the agency's decisions and the agency is satisfied that agency comments and suggestions have been addressed.

The FS will prepare separate Decision Notice (DN) for the authorization decision after issuance of the FERC EA. The FS decision to authorize WB XPress will be subject to FS predecisional administrative review procedures established in 36 CFR 218. The FS is requesting public comments on the authorization of WB XPress on NFS lands that would allow WB XPress to cross the MNF. All comments must be submitted to the FERC, the Lead Federal Agency, within 30 days following the date of publication of the FERC Notice of Availability for their EA in the Federal Register. Refer to Docket CP16-38-000 in all correspondence to ensure that your comments are correctly filed in the record. You may submit comments to the FERC using one of the methods listed in the ADDRESSES section above. Only those who submit timely and specific written comments regarding the proposed project during a public comment period are eligible to file an objection with the FS. Before including your address, phone number, email address, or other personal identifying information in your comments, you should be aware that the entire text of your comments—including your personal identifying information—would be publicly available through the FERC eLibrary system if you file your comments with the Secretary of the FERC.

Responsible Official for FS Authorization of Use to Issue a Special Use Permit: The Regional Forester Eastern Region is the Responsible Official.

Authority: 40 CFR 1506.6.

Dated: March 28, 2017.
Glenn P. Casamassa,
Associate Deputy Chief, National Forest System.

[FR Doc. 2017-07042 Filed 4-11-17; 8:45 am]

BILLING CODE 3411-15-P